DEPARTMENT OF ENERGY

Federal Energy Regulatory Commission

[Docket No. CP04-419-000]

Northern Natural Gas Company; Notice of Application

September 29, 2004.

Take notice that on September 22, 2004, Northern Natural Gas Company (Northern), 1111 South 103rd Street, Omaha, Nebraska 68124, filed in Docket No. CP04-419-000 an application pursuant to Section 7(b) of the Natural Gas Act and Part 157 of the Commission's Regulations, for permission and approval to abandon a natural gas pipeline suspension bridge (and its appurtenant facilities) spanning the Missouri River in Dakota County, Nebraska, and Woodbury County, Iowa, all as more fully set forth in the application which is on file with the Commission and open to public inspection. This filing may also be viewed on the Commission's Web site at http://www.ferc.gov using the “FERRIS” link, select “Docket #” and follow the instructions (call (202) 502-8222 or for TTY, (202) 502-8659).

Northern proposes to abandon by removal a 2,640-foot cable suspension bridge which supports 3,170 feet of the B-Line's 16-inch diameter pipeline spanning the Missouri River in Dakota and Woodbury Counties. Northern estimates that it will spend $550,000 of internally generated funds to abandon and remove the pipe, support cables, anchor structures, and concrete foundations that support the overall bridge structure. Northern states that the concrete foundations will be removed down to two feet below the existing grade.

Northern further states that it replaced the suspension bridge's B-Line pipeline segment with a 16-inch diameter pipeline via directional drilling under the Missouri River under Northern's blanket authority granted in Docket No. CP82-401-000 ¹ and will be reported in Northern's Annual Report to be filed on or before May 1, 2005. Northern also states that no firm service would be lost to its existing customers since Northern replaced the existing B-Line on the suspension bridge via directional drilling.

¹ 20 FERC ¶ 62,410 (1982).

Any questions regarding this application should be directed to Michael T. Loeffler, Director, Certificates and Reporting for Northern, 1111 South 103rd Street, Omaha, Nebraska 68124, at (402) 398-7103 or Donna Martens, Senior Regulatory Analyst, at (402) 398-7138.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

Comment Date: October 18, 2004.

Magalie R. Salas,
Secretary.

[FR Doc. E4-2510 Filed 10-5-04; 8:45 am]

BILLING CODE 6717-01-P